DEPARTMENT OF COMMERCE

National Oceanic and Atmospheric Administration

[I.D. 022505B]

Fisheries of the Northeastern United States; Atlantic Mackerel Fishery; Scoping Process

AGENCY: National Marine Fisheries Service (NMFS), National Oceanic and Atmospheric Administration (NOAA), Commerce.

ACTION: Notice of intent to prepare a supplemental environmental impact statement (SEIS); notice of scoping meetings; request for comments.

SUMMARY: The Mid-Atlantic Fishery Management Council (Council) announces its intention to prepare, in cooperation with NMFS, a SEIS in accordance with the National Environmental Policy Act to assess potential effects on the human environment of alternative measures for managing the Atlantic mackerel (Scomber scombrus) fishery pursuant to the Magnuson-Stevens Fishery Conservation and Management Act. Amendment 9 to the Atlantic Mackerel, Squid and Butterfish Fishery Management Plan (FMP) is under development and a NOI was previously published on November 29, 2001. Issues scoped under the previous NOI include: a multi-year specification process, the expiration of the moratorium on entry into the Illex squid fishery, revisions to the overfishing definition for Loligo squid, measures to minimize the adverse effects of fishing on essential fish habitat, and measures to reduce discards and bycatch. This notice further expands the scope of measures under consideration to include controlled access measures for the Atlantic mackerel fishery. This notice also announces a public process for determining the scope of issues to be addressed and for identifying the significant issues relating to the possible development of a limited access program for the Atlantic mackerel fishery. The intended effect of this notice is to alert the interested public of the scoping process and to provide for public participation. During this scoping period, the Council is seeking comments on the possible development of a limited access program for Atlantic mackerel only.

DATES: Written comments on the intent to prepare an SEIS must be received on or before 5 p.m., local time, April 4, 2005. The first public scoping meeting will be held at 10 a.m. on March 17, 2005, at the Ramada Inn Outer Banks Resort and Conference Center located at 1701 S. Virginia Dare Trail, Kill Devil Hills, NC 27948 (telephone 252-441-2151). The second scoping meeting will be held at 7 p.m. on March 28, 2005, at the Hotel Viking, One Bellevue Avenue, Newport, RI 02840 (telephone 401-848-4864).

ADDRESSES: Written comments on the possible development of a limited access program for the Atlantic mackerel fishery for inclusion in the SEIS for Amendment 9 to the FMP should be directed to Mr. Daniel T. Furlong, Mid-Atlantic Fishery Management Council, Room 2115 Federal Building, 300 S. New St., Dover, DE 19904, (telephone 302-674-2331). Comments may also be sent via fax to 302-674-5399 or by e-mail to MackLA9@noaa.gov. Please include in the subject line of e-mail comments the following document identifier: “Scoping Comments-Mackerel Limited Access.” The scoping document may also be obtained from the Council office at the address and telephone number above or via the Internet at http://www.nero.noaa.gov/nero/.

FOR FURTHER INFORMATION CONTACT: Mr. Daniel T. Furlong, Mid-Atlantic Fishery Management Council, Room 2115 Federal Building, 300 S. New St., Dover, DE 19904, (telephone 302-674-2331).

SUPPLEMENTARY INFORMATION: On July 5, 2002 (67 FR 44794), NMFS announced that it was considering proposed rulemaking to control future access to the Atlantic mackerel fishery if a management program was implemented to limit the number of participants in the fishery. The purpose of this “control date” was to discourage speculative entry into the Atlantic mackerel fishery while the Council and NMFS discussed whether and how access to the Atlantic mackerel fishery should be controlled. The Council recently voted to include the possible development of a limited access program to the Atlantic mackerel fishery in Amendment 9 at its January 2005 meeting. The issue was subsequently discussed at a meeting of the Councils' Atlantic Mackerel, Squid and Butterfish Committee (Committee) on February 18, 2005, in Cape May, NJ. The Committee agreed to seek public comment on the following questions relative to limiting access to the Atlantic mackerel fishery: (1) Is limited access to the Atlantic mackerel fishery warranted or should no action be taken? (2) If limited access in the mackerel fishery is warranted, then what type of system is appropriate? (3) What criteria should the Council consider to qualify vessels for limited access to the mackerel fishery? (4) What is the appropriate qualifying period and should the control date be used in the definition of the qualifying period? (5) Should the Council consider the implementation of a trigger which would initiate controlled access at a future date? (6) What provisions for vessel upgrades, if any, should the Council consider if limited access is implemented in the mackerel fishery? (7) Under limited access conditions, should rules governing at sea processing and transfers at sea in the mackerel fishery be established? and (8) To what extent does the lack of joint management of the Atlantic mackerel resource with Canada affect the development of a limited access program in the portion of the fishery under US jurisdiction?

Special Accommodations

These meetings are physically accessible to people with disabilities. Requests for sign language interpretation or other auxiliary aids should be directed to Debbie Donnangelo at the Mid-Atlantic Council, telephone (302) 674-2331, at least 5 days prior to the scoping meetings.

Authority: Authority: 16 U.S.C. 1801 et seq.

Dated: February 28, 2005.
Alan D. Risenhoover,
Acting Director, Office of Sustainable Fisheries, National Marine Fisheries Service.

[FR Doc. E5-895 Filed 3-3-05; 8:45 am]

BILLING CODE 3510-22-S